DEPARTMENT OF THE INTERIOR

Bureau of Land Management

[WY-920-1310-01; WYW 134974]

Notice of Proposed Reinstatement of Terminated Oil and Gas Lease

July 10, 2000.

Pursuant to the provisions of 30 U.S.C. 188(d) and (e), and 43 CFR 3108.2-3(a) and (b)(1), a petition for reinstatement of oil and gas lease WYW1349744 for lands in Fremont County, Wyoming, was timely filed and was accompanied by all the required rentals accruing from the date of termination.

The lessee has agreed to the amended lease terms for rentals and royalties at rates of $10.00 per acre, or fraction thereof, per year and 16⅔ percent, respectively.

The lessee has paid the required $500 administrative fee and $125 to reimburse the Department for the cost of this Federal Register notice. The lessee has met all the requirements for reinstatement of the lease as set out in Section 31 (d) and (e) of the Mineral Lands Leasing Act of 1920 (30 U.S.C. 188), and the Bureau of Land Management is proposing to reinstatement lease WYW134974 effective February 1, 2000, subject to the original terms and conditions of the lease and the increased rental and royalty rates cited above.

Theresa M. Stevens,
Acting Chief, Leasable Minerals Section.

[FR Doc. 00-18381 Filed 7-19-00; 8:45 am]

BILLING CODE 4310-22-M